ENVIRONMENTAL PROTECTION AGENCY

[Region 4 Library; FRL-9970-91-Region 4]

Notice of Change to Operating Hours

AGENCY: Environmental Protection Agency (EPA).

ACTION: Informational notice.

SUMMARY: The Environmental Protection Agency (EPA) is issuing this notice to advise the public that the Region 4 Library will change its operating hours from 8:00 a.m.-4:30 p.m. to 9:00 a.m.-3:00 p.m., Monday through Friday. The library will remain closed on Federal holidays.

DATES: The new operating hours for the Region 4 Library will be effective November 1, 2017.

FOR FURTHER INFORMATION CONTACT: The Region 4 Federal Library Managers Shayla Patillo at (404) 562-8385 or LouAnn Gross at (404) 562-9642.

Dated: October 27, 2017.
Kristy H. Eubanks,
Assistant Regional Administrator, Region 4.

[FR Doc. 2017-25194 Filed 11-20-17; 8:45 am]

BILLING CODE 6560-50-P